DEPARTMENT OF TRANSPORTATION

Federal Highway Administration

[Docket No. FHWA-2021-0006]

Notice of Intent To Prepare an Environmental Impact Statement for a Proposed Highway Project, Bronx County, NY

AGENCY: Federal Highway Administration (FHWA), U.S. Department of Transportation (DOT).

ACTION: Notice of intent to prepare an environmental impact statement.

SUMMARY: FHWA is issuing this Notice of Intent (NOI) to solicit comments and advise the public, agencies, and stakeholders that an Environmental Impact Statement (EIS) will be prepared for the proposed replacement or rehabilitation of the Shore Road Bridge over the Hutchinson River in Bronx County, New York (the Project). This NOI contains a summary of the information required in the Council on Environmental Quality (CEQ) regulations. This NOI should be reviewed together with the NOI Report, which contains important details about the proposed project and supplements the information in this NOI. Persons and agencies who may be interested in or affected by the proposed project are encouraged to comment on the information in this NOI and the NOI Report.

DATES: Comments on the NOI or the NOI Report are to be received by FHWA at the address below by August 11, 2021.

ADDRESSES: This NOI and the NOI Report are also available in the docket referenced above at http://www.regulations.gov. and on the project website located at https://shoreroadbridgebx.com/. The NOI Report will be mailed upon request.

To submit comments on the NOI or the NOI Report, please submit them by only one of the following means to ensure you do not duplicate your submissions:

• Mail: Federal Highway Administration, New York Division, Attention: Shore Road Bridge Project (PIN X773.63), Leo W. O'Brien Federal Building, 11A Clinton Avenue, Suite 719, Albany, New York 12207.

• Mail: New York City Department of Transportation, Division of Bridges, Shore Road Bridge Project Team, Attention: Joannene Kidder, 55 Water Street, 5th Floor, New York, NY 10041.

• Email: ShoreRoadBridgeBX@dot.nyc.gov.

The comments received during this 30-day comment period will be published in the Draft EIS without change, including any personal information provided.

FOR FURTHER INFORMATION CONTACT: Richard J. Marquis, Division Administrator, Federal Highway Administration, New York Division, Leo W. O'Brien Federal Building, 11A Clinton Avenue, Suite 719, Albany, New York 12207, Telephone: (518) 431-4127, Email: Rick.Marquis@dot.gov or Naim Rasheed, Assistant Commissioner, New York City Department of Transportation, Traffic Engineering & Planning, 55 Water Street, 6th floor, New York, NY 10004, Telephone: (212) 839-7710, Email: ShoreRoadBridgeBX@dot.nyc.gov.

Interested persons can also use the Shore Road Bridge email address referenced above to request to be added to the project mailing list to receive notices of future project information.

SUPPLEMENTARY INFORMATION: FHWA, as Federal lead agency, the New York State Department of Transportation (NYSDOT), as joint lead agency, and the New York City Department of Transportation (NYCDOT), as project sponsor and joint lead agency, are preparing an EIS for the Shore Road Bridge over Hutchinson River Project located in the Bronx, New York, in accordance with the requirements of the National Environmental Policy Act (NEPA) of 1969, as amended (42 U.S.C. 4321, et seq.), 23 U.S.C. 139, CEQ regulations implementing NEPA (40 CFR 1500-1508), FHWA regulations implementing NEPA (23 CFR 771.101-771.139) and applicable Federal, State, and local governmental laws and regulations. The Project is classified as a NEPA Class I action under 23 CFR part 771 and a City Environmental Quality Review (CEQR) Type 1 action under 6 NYCRR 617 and 43 RCNY § 6. To ensure that a full range of issues are addressed in the EIS and potential issues are identified, comments and suggestions are invited from all interested parties. FHWA requests comments and suggestions on potential project alternatives and impacts, and the identification of any relevant information, studies, or analyses of any kind concerning impacts affecting the quality of the human environment. The purpose of this request is to bring relevant comments, information, and analyses to FHWA's attention, as early in the process as possible, to enable the agency to make maximum use of this information in decision making.

An NOI was previously published in the Federal Register in 1999 to advise the public that an EIS would be prepared for rehabilitation, reconstruction, or replacement of the Shore Road Bridge over the Hutchinson River in Bronx County, New York. FHWA rescinded the 1999 NOI by a Notice published in the Federal Register on May 6, 2021, because a substantial amount of time had passed since the original NOI was published.

The Shore Road Bridge, also known as the Pelham Bridge, is an 865-foot-long bridge with seven spans. The main span over the navigation channel is a double-leaf movable bascule span, which is flanked by three concrete arch spans on either side. The bridge and its associated roadway provide access to major interchanges with the Hutchinson River Parkway and Bruckner Expressway west of the bridge and City Island Road east of the bridge.

1. Purpose and Need for the Proposed Action

The purpose of the Project is to address the structural deficiencies, geometric deficiencies, and operational reliability for multi-modal users, including marine vessels, of the Shore Road Bridge over the Hutchinson River. The objectives of the Project are to address the identified structural, geometric and operational deficiencies of the crossing, address operational constraints associated with the passage of marine vessels under the bridge, and improve bicycle/pedestrian facilities on the Shore Road Bridge. The Project is needed to address structural deficiencies; improve vehicular and marine traffic operations and the operational reliability of the bridge; address geometric deficiencies; and improve pedestrian and bicycle accommodations. The complete current draft project purpose and need statement may be reviewed in the NOI Report available in the docket established for this project and on the project website as noted in the ADDRESSES section. Comments on the Purpose and Need for the Proposed Action are welcomed during the NOI comment period.

2. Preliminary Description of the Proposed Action and Alternatives

A reasonable range of alternatives for detailed study in the EIS is currently being considered and will be refined in consideration of agency and public comments received during the NOI comment period. In addition to the No Action Alternative, potential project alternatives include bridge replacement and bridge rehabilitation. A preliminary description of these potential alternatives is provided below. Additional information on the proposed alternatives is included in the NOI Report available for review in the docket established for this project and on the project website as noted in the ADDRESSES section. Comments on the proposed alternatives to be included in the draft EIS are welcomed during the NOI comment period.

The No Action Alternative assumes no improvements other than those planned by others or implemented as part of routine maintenance. The Bridge Rehabilitation Alternative would require major work to extend the useful life of the existing Shore Road Bridge. The operability of the bridge would need to be maintained while addressing structural deficiencies, geometric deficiencies, and operational reliability of the bridge.

The Bridge Replacement Alternative would replace the existing Shore Road Bridge with a new bridge. Various bridge replacement concepts will be considered during the scoping process, including both on-line and off-line horizontal alignments and several different vertical profile/clearances (heights) over the navigation channel in the closed or fixed positions.

Additional information on the potential alternatives, as well as maps and figures illustrating the project location, are provided in the NOI Report available for review in the docket established for this project and on the project website as noted in the ADDRESSES section.

3. Summary of Expected Impacts

The EIS will include an evaluation of the potential social, economic, and environmental effects resulting from the implementation of the Project. Based on preliminary review of existing conditions within and in proximity to the Project location, the implementation of the Project could result in effects to cultural and historic resources; social conditions; parks and recreational areas; threatened and endangered species; tidal wetlands; coastal resources; navigable waters; hazardous waste and contaminated materials; floodplains; traffic noise; air quality; local and regional economies; and visual resources. The analyses and evaluations conducted for the EIS will identify the potential for effects; whether the anticipated effects would be adverse; and mitigation measures for adverse effects. Evaluations under Section 4(f) of the USDOT Act of 1966, 23 CFR part 774, and Section 6(f) of the Land and Water Conservation Fund Act of 1965, 54 U.S.C. 200302, will be prepared, and consultation under Section 106 of the National Historic Preservation Act of 1966, 54 U.S.C. 300101-307108, will be undertaken concurrently with the NEPA/CEQR environmental review processes. Additional information on the expected impacts is provided in the NOI Report available for review in the docket established for this project and on the project website as noted in the ADDRESSES section. Comments on the expected impacts to be analyzed in the draft EIS are welcomed during the NOI comment period.

4. Anticipated Permits and Other Authorizations

Potential permits and approvals for the Project include: U.S. Army Corps of Engineers (USACE) permits under Section 404 of the Clean Water Act, 33 U.S.C. 1344, and Section 10 of the Rivers and Harbors Act, 33 U.S.C. 403, for construction in the Hutchinson River and potential tidal wetland impacts; U.S. Coast Guard (USCG) Bridge Permit, which establishes allowable clearances for bridges over navigable waterways such as the Hutchinson River; National Marine Fisheries Service (NMFS) Section 7 Endangered Species Act, 16 U.S.C. 1536, consultation for potential impacts on threatened and/or endangered species in the Hutchinson River; U.S. Fish and Wildlife Service (USFWS) Section 7 Endangered Species Act, 16 U.S.C. 1536, consultation for potential impacts to federally-listed threatened species; NMFS Essential Fish Habitat Consultation for potential impacts to species due to construction in the Hutchinson River; as well as any other relevant New York State and City permits. Field verification meetings with USACE for the wetlands delineation were held on June 12, 2018 and September 10, 2019. USACE issued a jurisdictional determination (JD) on June 15, 2020.

The first Cooperating Agency meeting for the Project was held on March 3, 2021. Cooperating Agencies include USACE, NMFS, United States Environmental Protection Agency (USEPA), Federal Transit Administration (FTA), New York State Department of Environmental Conservation (NYSDEC), and New York State Historic Preservation Office (SHPO) at New York State Office of Parks, Recreation, and Historic Preservation (NYSOPRHP).

The first Participating Agency meeting for the Project was held on March 5, 2021. Participating Agencies include USCG, United States Department of Interior (USDOI)/National Park Service (NPS), USFWS, Advisory Council on Historic Preservation (ACHP), Metropolitan Transportation Authority (MTA), Village of Pelham Manor, New York City Department of Parks and Recreation (NYCDPR), New York City Department of City Planning (NYCDCP), New York City Landmarks Preservation Commission (LPC), New York City Department of Environmental Protection (NYCDEP), New York City Mayor's Office of Resiliency (NYCMOR), New York City Office of Emergency Management (NYCEM), New York City Mayor's Office of Environmental Coordination, New York City Mayor's Office of Sustainability (NYCMOS), New York City Department of Sanitation (DSNY), Fire Department of the City of New York (FDNY), City of New York Police Department (NYPD), New York City Public Design Commission, New York Office of General Services (OGS), Delaware Tribe, Shinnecock Indian Nation Tribal Office, and Stockbridge-Munsee Community.

Meetings with Cooperating and Participating Agencies will continue to be held throughout the environmental review process. In addition, a meeting with USCG was held on April 21, 2021.

5. Schedule for the Decision-Making Process

The Project schedule will be established as part of the requirements of the environmental review process under 23 U.S.C. 139 and will comply with 40 CFR 1501.10(b)(2), which requires that environmental reviews and authorization decisions for major infrastructure projects occur within two years (from the date of publication of the NOI to the date of issuance of the Record of Decision [ROD]), and all necessary authorizations be issued efficiently and in a timely manner, in cooperation with the FHWA. A current draft of the coordination plan, public involvement plan, and project schedule are included in the NOI Report, which is available for review in the docket established for this project and on the project website as noted in the ADDRESSES section.

The anticipated project schedule is outlined below:

• Public Scoping Meetings (August 2021)

• Scoping Report Publication (November 2021)

• Notice of Availability of the Draft EIS (DEIS) (October 2022)

• Public Hearing (October 2022)

• End of DEIS Comment Period (November 2022)

• Publish Single Final EIS (FEIS)/ROD (April 2023)

• Issue all Project Permits and Authorization Decisions (July 2023)

6. A Description of the Public Scoping Process

Public and agency outreach will include a formal Public Scoping Meeting scheduled on August 3, 2021. A Public Hearing on the DEIS will also be scheduled. The first Cooperating Agency meeting for the Project was held on March 3, 2021 and the first Participating Agency meeting for the Project was held on March 5, 2021. During these meetings, the agencies were presented with a general overview of the Project, including the project needs, purpose, and objectives and project schedule, a discussion of the anticipated roles and responsibilities of the agencies, a summary of key environmental topics, and planned public outreach activities. Monthly meetings with Cooperating Agencies and periodic meetings with Participating Agencies will continue to be held throughout the environmental review process. Concurrence Point #1, the adoption of the Project Purpose, Objectives, and Need, was distributed to the Cooperating Agencies on March 8, 2021. Attachment A to the Agency Coordination Plan is the Permitting Timetable and it was distributed to the Cooperating Agencies on March 16, 2021 and April 9, 2021. The Permitting Timetable will be posted by FHWA to the Federal Permitting Dashboard within 30 days of the publication of this Notice of Intent. The Agency Coordination Plan and Public Involvement Plan were distributed to the Cooperating Agencies on April 7, 2021 and will be posted on the project website.

As described in the ADDRESSES section, an NOI Report is located in the docket established for this project and on the project website. The NOI Report includes the Draft Statement of Purpose, Needs and Objectives; Agency Coordination Plan; Public Involvement Plan; Schedule/NEPA Process/Project Timeline; and Project Maps/Figures. Public notice will be given of the date, time, and location of the Public Scoping Meeting consistent with the Public Involvement Plan. To assist in determining the scope of issues to be addressed and identifying the potential for significant issues related to the proposed action, the public will have the opportunity to submit written comments at the Public Scoping Meeting and during the 30-day scoping comment period beginning on the date of this NOI publication. A DEIS will be available for public and agency review and comment prior to the DEIS Public Hearing.

7. Request for Identification of Potential Alternatives, Information, and Analyses Relevant to the Proposed Action

With this Notice, FHWA, NYSDOT, and NYCDOT request and encourage State, Tribal, and local government agencies, and the public, to review the NOI and NOI Report, and submit comments on any aspect of the Project. Specifically, agencies and the public are asked to identify and submit potential alternatives for consideration and information such as anticipated significant issues or environmental impacts and analyses relevant to the proposed action for consideration by the Lead and Cooperating Agencies in developing the DEIS. Comments must be received by August 11, 2021. Comments or questions concerning this proposed action, including comments relative to potential alternatives, information and analyses, should be directed to the FHWA and NYCDOT at the addresses provided in the FOR FURTHER INFORMATION CONTACT section of this notice.

Authority: 42 U.S.C. 4321 et seq.; 23 U.S.C. 139; 23 CFR part 771.

Issued on: June 30, 2021.
Richard J. Marquis,
Division Administrator, Albany, NY.

[FR Doc. 2021-14549 Filed 7-9-21; 8:45 am]

BILLING CODE 4910-22-P